DEPARTMENT OF AGRICULTURE

National Agricultural Statistics Service

Notice of Intent To Request Revision and Extension of a Currently Approved Information Collection

AGENCY: National Agricultural Statistics Service, USDA.

ACTION: Notice and request for comments.

SUMMARY: In accordance with the Paperwork Reduction Act of 1995, this notice announces the intention of the National Agricultural Statistics Service (NASS) to request revision and extension of a currently approved information collection, the Organic Production Survey. Revision to burden hours will be needed due to changes in the size of the target population, sampling design, and/or questionnaire length.

DATES: Comments on this notice must be received by April 8, 2011 to be assured of consideration.

ADDRESSES: You may submit comments, identified by docket number 0535-0249, by any of the following methods:

• E-mail: ombofficer@nass.usda.gov. Include docket number above in the subject line of the message.

• Fax: (202) 720-6396.

• Mail: Mail any paper, disk, or CD-ROM submissions to: David Hancock, NASS Clearance Officer, U.S. Department of Agriculture, Room 5336 South Building, 1400 Independence Avenue, SW., Washington, DC 20250-2024.

• Hand Delivery/Courier: Hand deliver to: David Hancock, NASS Clearance Officer, U.S. Department of Agriculture, Room 5336 South Building, 1400 Independence Avenue, SW., Washington, DC 20250-2024.

FOR FURTHER INFORMATION CONTACT: Joseph T. Reilly, Associate Administrator, National Agricultural Statistics Service, U.S. Department of Agriculture, (202) 720-4333.

SUPPLEMENTARY INFORMATION: Title: Organic Production Survey.

OMB Control Number: 0535-0249.

Expiration Date of Previous Approval: April 30, 2012.

Type of Request: To revise and extend a currently approved information collection for a period of three years.

Abstract: The primary objective of the National Agricultural Statistics Service (NASS) is to prepare and issue State and national estimates of crop and livestock production, prices, and disposition as well as economic statistics, farm numbers, land values, on-farm pesticide usage, pest crop management practices, as well as the Census of Agriculture. In 2009, NASS conducted the 2008 Organic Production Survey (OMB # 0535-0249). This was originally designed to be conducted once every five years as a follow-on-survey to the Census of Agriculture. The USDA Risk Management Agency (RMA) has made a formal agreement with NASS to conduct this as an annual survey. The pilot survey year would be 2012 for the reference period of 2011. The questionnaire would be similar to what was used in the 2009 survey. Some noticeable changes that would occur in the annual survey include the removal of the organic floriculture and nursery questions and some of the organic production practices questions. In their place we plan to incorporate more commodity specific questions that would be directed at different commodities each year. In the pilot year we plan to target organically grown apples and grapes. Each year as new target commodities are selected for this survey an update will be submitted to OMB containing the non-substantive changes.

The census-based survey will include all known farm operators who produce organically certified crops and/or livestock. The survey will be conducted in all States. Some operational level data will be collected to use in classifying each operation for summary purposes. The majority of the questions will involve production data (acres planted, acres harvested, quantity harvested, quantity sold, value of sale, etc.), production expenses, and marketing practices.

The pilot survey reference date will be the calendar year 2011. Approximately 15,000 operations will be contacted by mail in early January 2012, with a second mailing later in the month to non-respondents. Telephone and personal enumeration will be used for remaining non-response follow up. The National Agricultural Statistics Service will publish summaries in October 2012 at both the State level and for each major organic commodity when possible. Some State level data may need to be published on regional or national level due to confidentiality rules.

Under the 2008 Farm Bill (Pub. L. 110-246, Section 12023, Part D) some of the duties of the Federal Crop Insurance Corporation (FCIC) are defined as “(i) IN GENERAL.—The Corporation shall submit to the Committee on Agriculture of the House of Representatives and the Committee on Agriculture, Nutrition, and Forestry of the Senate an annual report on progress made in developing and improving Federal crop insurance for organic crops, including—“(I) the numbers and varieties of organic crops insured; “(II) the development of new insurance approaches; and “(III) the progress of implementing the initiatives required under this paragraph, including the rate at which additional price elections are adopted for organic crops.”

Authority: These data will be collected under the authority of 7 U.S.C. 2204(a). Individually identifiable data collected under this authority are governed by Section 1770 of the Food Security Act of 1985 as amended, 7 U.S.C. 2276, which requires USDA to afford strict confidentiality to non-aggregated data provided by respondents. This Notice is submitted in accordance with the Paperwork Reduction Act of 1995, Public Law 104-13 (44 U.S.C. 3501, et seq.) and Office of Management and Budget regulations at 5 CFR part 1320.

NASS also complies with OMB Implementation Guidance, “Implementation Guidance for Title V of the E-Government Act, Confidential Information Protection and Statistical Efficiency Act of 2002 (CIPSEA),” Federal Register, Vol. 72, No. 115, June 15, 2007, p. 33362.

Estimate of Burden: Public reporting burden for this collection of information is estimated to average 30 minutes per response.

Respondents: Farmers and Ranchers.

Estimated Number of Respondents: 15,000.

Estimated Total Annual Burden on Respondents: 7,900 hours.

Copies of this information collection and related instructions can be obtained without charge from David Hancock, NASS Clearance Officer, at (202) 690-2388.

Comments: Comments are invited on: (a) Whether the proposed collection of information is necessary for the proper performance of the functions of the agency, including whether the information will have practical utility; (b) the accuracy of the agency's estimate of the burden of the proposed collection of information including the validity of the methodology and assumptions used; (c) ways to enhance the quality, utility, and clarity of the information to be collected; and (d) ways to minimize the burden of the collection of information on those who are to respond, including through the use of appropriate automated, electronic, mechanical, technological or other forms of information technology collection methods.

All responses to this notice will become a matter of public record and be summarized in the request for OMB approval.

Signed at Washington, DC, January 13, 2011.
Joseph T. Reilly,
Associate Administrator.

[FR Doc. 2011-2563 Filed 2-4-11; 8:45 am]

BILLING CODE 3410-20-P